SMALL BUSINESS ADMINISTRATION

[Disaster Declaration #20842 and #20843; HAVASUPAI TRIBE Disaster Number AZ-20008]

Presidential Declaration of a Major Disaster for Public Assistance Only for the Havasupai Tribe

AGENCY: U.S. Small Business Administration.

ACTION: Notice.

SUMMARY: This is a Notice of the Presidential declaration of a major disaster for Public Assistance Only for the Havasupai Tribe (FEMA-4840-DR), dated October 25, 2024.

Incident: Flooding.

DATES: Issued on October 25, 2024.

Incident Period: August 22, 2024 through August 23, 2024.

Physical Loan Application Deadline Date: December 24, 2024.

Economic Injury (EIDL) Loan Application Deadline Date: July 25, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on October 25, 2024, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following area has been determined to be adversely affected by the disaster:

Primary Area (Physical Damage and Economic Injury Loans): Havasupai Tribe

The Interest Rates are:

| Percent
For Physical Damage:
Non-Profit Organizations with Credit Available Elsewhere | 3.250
Non-Profit Organizations without Credit Available Elsewhere | 3.250
For Economic Injury:
Non-Profit Organizations without Credit Available Elsewhere | 3.250

The number assigned to this disaster for physical damage is 208426 and for economic injury is 208430.

(Catalog of Federal Domestic Assistance Number 59008)

Alejandro Contreras,
Acting Deputy Associate Administrator, Office of Disaster Recovery & Resilience.

[FR Doc. 2024-25787 Filed 11-5-24; 8:45 am]

BILLING CODE 8026-09-P